DEPARTMENT OF TRANSPORTATION

Federal Motor Carrier Safety Administration

[Docket No. FMCSA-2025-0003]

Agency Information Collection Activities; Renewal of an Approved Information Collection Request: Transportation of Household Goods; Consumer Protection

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests OMB's renewed approval of the ICR titled “Transportation of Household Goods; Consumer Protection,” which applies to household goods motor carriers who are procured by the public (household goods shippers) to transport their household goods. This renewal revises the previous information collection's number of respondents, total respondent hours, and cost burden. No comments were received in response to the 60-day Federal Register notice.

DATES: Comments on this notice must be received on or before July 25, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Eduardo Suarez, Commercial Enforcement Division, DOT, FMCSA, 1200 New Jersey Avenue SE, Washington, DC 20590-0001; (760) 693-6646; Eduardo.Suarez@dot.gov.

SUPPLEMENTARY INFORMATION:

Title: Transportation of Household Goods; Consumer Protection.

OMB Control Number: 2126-0025.

Type of Request: Renewal of a currently approved collection.

Respondents: Household goods motor carriers.

Estimated Number of Respondents: 7,861.

Estimated Time per Response: Varies.

Expiration Date: July 31, 2025.

Frequency of Response: On occasion.

Estimated Total Annual Burden: 3,722,704 hours. The estimated total annual burden was calculated using the hourly burden for each of the five Information Collections.

Background

On July 12, 2005, FMCSA published a final rule titled “Transportation of Household Goods; Consumer Protection Regulations,” (70 FR 39949), which specified how motor carriers transporting household goods by motor vehicle in interstate commerce must assist their individual customers who ship household goods. The collected information encompasses that which is generated, maintained, and provided to, or for, the Agency under 49 CFR part 375.

On August 10, 2005, the President signed into law the Safe, Accountable, Flexible, Efficient Transportation Equity Act: A Legacy for Users ((SAFETEA-LU), Pub. L. 109-59, 119 Stat. 1144, Aug. 10, 2005). The Agency consequently revised this ICR to address these statutory impacts in a final rule titled “Amendments to Implement Certain Provisions of the Safe, Accountable, Flexible, Efficient Transportation Act: A Legacy for Users (SAFETEA-LU)” (72 FR 36760, July 5, 2007). Section 4205 of SAFETEA-LU amended 49 U.S.C. 14104(b) by requiring the household goods motor carrier to conduct a physical survey of the household goods to be transported on behalf of the individual shipper. The carrier must then provide the shipper with a written estimate, based on the physical survey, of charges for the transportation and all related services.

On July 16, 2012, FMCSA published a direct final rule titled “Transportation of Household Goods in Interstate Commerce; Consumer Protection Regulations: Household Goods Motor Carrier Record Retention Requirements” (77 FR 41699) that amended the regulations governing the period during which household goods motor carriers must retain documentation of an individual shipper's waiver of receipt of printed copies of consumer protection materials. In the rulemaking, FMCSA reduced the 3-year required retention period for those receipts to 1 year. This change harmonized the retention period with other document retention requirements applicable to household goods motor carriers. FMCSA also amended the regulations to clarify that a household goods motor carrier is not required to retain waiver documentation from any individual shippers for whom the carrier does not actually provide services.

On April 26, 2022, FMCSA updated the regulations at 49 CFR parts 371 and 375 in a final rule titled “Implementation of Household Goods Working Group Recommendations” (87 FR 24431). The final rule made various changes to the household goods regulations that the Household Goods Consumer Protection Working Group recommended to FMCSA. These changes, which are incorporated in Appendix A to 49 CFR part 375, include further revisions to streamline FMCSA's publication “Your Rights and Responsibilities When You Move.” Household goods motor carriers are required to provide consumers with the “Your Rights and Responsibilities When You Move” pamphlet along with the estimate and to provide new binding or non-binding estimates instead of the previously-allowed revised estimates when an individual shipper tenders more goods or requests additional service. The final rule also allowed motor carriers to provide a virtual survey and removed the 50-mile radius for when a survey is required, removed the requirement for an order for service and incorporated that document into the bill of lading, and made other minor updates to increase the clarity of the regulations. These changes were intended to reduce the paperwork burden on household goods motor carriers and reduce confusion for individual shippers.

The complete information collection required by the referenced final rules assists household goods shippers in their business dealings with interstate household goods motor carriers. The information collected is used by prospective household goods shippers to make informed decisions about contracts and services ordered, executed, and settled. The household goods motor carrier is often the final contact for individual shippers and is in the best position to educate and assist household goods shippers during their move. The regulations are intended to combat deceptive business practices by requiring household goods motor carriers to conduct physical surveys of shippers' items to be transported unless waived in writing by the shipper and to combat deceptive business practices by requiring the household goods motor carrier to prepare an inventory of the goods shipped and a bill of lading for each shipment. The regulations also require motor carriers to obtain weight tickets for each shipment, to generate and maintain additional documents associated with the status of shipment delays and to furnish shippers, upon request, the records of contact regarding delays, and to keep written or electronic records of all complaints received from shippers. They help enforcement personnel better protect consumers by verifying that shippers are receiving information as required by regulations. The information collection itself does not impose these requirements independently. It supports compliance with the regulatory provisions under 49 CFR part 375. The documents and records that household goods motor carriers must maintain and, in some cases, furnish—such as inventories, bill of lading, and weight tickets—are necessary to demonstrate that they are meeting regulatory obligations. This collection enables FMCSA and consumers to verify adherence to consumer protection standards and helps facilitate enforcement. There is an information collection associated with the regulations because FMCSA requires household goods motor carriers to keep records and provide documents.

FMCSA revises the total annual burden to 3,722,704 hours. This is an increase of 14,609 annual burden hours from the currently approved 3,708,095 burden hours estimate. The increase is due to Agency estimates of the number of active household goods motor carriers subject to the information collection requirements.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Kenneth Riddle,
Acting Associate Administrator, Office of Research and Registration.

[FR Doc. 2025-11685 Filed 6-24-25; 8:45 am]

BILLING CODE 4910-EX-P